DEPARTMENT OF LABOR

Employment and Training Administration

[TA-W-54,484]

Cady Industries, Inc., Pearson, GA; Dismissal of Application for Reconsideration

Pursuant to 29 CFR 90.18(C) an application for administrative reconsideration was filed with the Director of the Division of Trade Adjustment Assistance for workers at Cady Industries, Inc., Pearson, Georgia. The application contained no new substantial information which would bear importantly on the Department's determination. Therefore, dismissal of the application was issued.

TA-W-54,484; Cady Industries, Inc., Pearson, Georgia (June 24, 2004)

Signed at Washington, DC, this 25th day of June, 2004.
Timothy Sullivan,
Director, Division of Trade Adjustment Assistance.

[FR Doc. 04-14923 Filed 6-30-04; 8:45 am]

BILLING CODE 4510-30-P